SECURITIES AND EXCHANGE COMMISSION

17 CFR Part 240

Trusts

CFR Correction

In Title 17 of the Code of Federal Regulations, Part 240 to end, on page 421, in § 240.16a-8 paragraphs (a)(1)(i), (ii), (A), and (B) are removed.

[FR Doc. 06-55503 Filed 1-25-06; 8:45 am]

BILLING CODE 1505-01-D